DEPARTMENT OF JUSTICE

Notice of Lodging of Proposed Consent Decree Under the Resource Conservation and Recovery Act

On April 16, 2013, the Department of Justice lodged a proposed Consent Decree with the United States District Court for the District of the Virgin Islands in the lawsuit entitled United States v. Government of the Virgin Islands, et al., Civil Action No. 3:10-cv-48.

In this action the United States seeks, among other things, injunctive relief and civil penalties for the failure by Joseph and Zulma Hodge to remove used tires from their property adjacent to the Bovoni Landfill on St. Thomas in compliance with a U.S. Environmental Protection Agency administrative order issued under the Resource Conservation and Recovery Act. The proposed Consent Decree provides for the Hodges to remove and dispose of off-site used tires remaining on their property and to pay a civil penalty of $100,000.

The publication of this notice opens a period for public comment on the Consent Decree. Comments should be addressed to the Assistant Attorney General, Environment and Natural Resources Division, and should refer to United States v. Government of the Virgin Islands, et al., D.J. Ref. No. 90-5-2-1-08776. All comments must be submitted no later than 30 days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Consent Decree may be examined and downloaded at this Justice Department Web site: http://www.usdoj.gov/enrd/Consent_Decrees.html. We will provide a paper copy of the Consent Decree upon written request and payment of reproduction costs. Please mail your request and payment to: Consent Decree Library, U.S. DOJ—ENRD, P.O. Box 7611, Washington, DC 20044-7611.

Please enclose a check or money order for $5.25 (25 cents per page reproduction cost) payable to the United States Treasury.

Brian G. Donohue,
Acting Assistant Section Chief, Environmental Enforcement Section, Environment and Natural Resources Division.

[FR Doc. 2013-09846 Filed 4-25-13; 8:45 am]

BILLING CODE 4410-15-P